DEPARTMENT OF TRANSPORTATION

Federal Aviation Administration

Notice of Submission Deadline To Amend Slot Records for LaGuardia Airport

AGENCY: Federal Aviation Administration (FAA), Department of Transportation.

ACTION: Notice of submission deadline.

SUMMARY: Under this notice, the FAA announces the submission deadline of January 5, 2015, for requests to amend slot records (adjust slot times and arrival/departure designations) at New York LaGuardia Airport (LGA).

DATES: Adjustment requests must be submitted no later than January 5, 2015.

ADDRESSES: Adjustment requests may be submitted by mail to the Slot Administration Office, AGC-200, Office of the Chief Counsel, 800 Independence Ave. SW., Washington, DC 20591; by facsimile to: 202-267-7277; or by email to: 7-AWA-slotadmin@faa.gov.

FOR FURTHER INFORMATION CONTACT: Robert Hawks, Office of the Chief Counsel, Federal Aviation Administration, 800 Independence Avenue SW., Washington, DC 20591; telephone number: 202-267-7143; email: rob.hawks@faa.gov.

SUPPLEMENTARY INFORMATION: Scheduled operations at LGA currently are limited by FAA Order until a final Slot Management and Transparency Rule for LaGuardia Airport, John F. Kennedy International Airport, and Newark Liberty International Airport (RIN 2120-AJ89) becomes effective but not later than October 29, 2016.¹ The LGA Order permits the leasing or trading of slots through the expiration date of the Order, but this mechanism limits a carrier's ability to permanently adjust its slot base through trades with another carrier, as is common at Ronald Reagan Washington National Airport (DCA). Additionally, the Order permanently allocates slots, unlike the EWR and JFK Orders that allocate slots and permit slot retimings on a seasonal basis, subject to availability of slots through a transparent process generally following the International Air Transport Association (IATA) Worldwide Slot Guidelines (WSG).²

¹ Operating Limitations at New York LaGuardia Airport, 71 FR 77854 (Dec. 27, 2006) as amended by 79 FR 17222 (Mar. 27, 2014).

² See 79 FR 16857 (Mar. 26, 2014) (EWR Order); 79 FR 16854 (Mar. 26, 2014) (JFK Order).

In July 2014, the FAA announced a submission deadline for requests to amend slot records (adjust slot times and arrival/departure designations) and evaluated those requests in anticipation of the 2014-15 winter IATA scheduling season.³ The FAA received generally favorable feedback from carriers and interested parties on the adjustment process. Historically, the FAA had evaluated and confirmed these adjustment requests, consistent with the LGA Order and prior FAA practice, on a first-come, first-served basis after evaluating whether they have an operational benefit or a neutral effect on operations. Since 2007, adjustments have improved LGA operational performance. Although the FAA had not necessarily intended to request and review slot adjustments on a regular basis, it has determined that using a seasonal review process addresses operational necessities in a fair and transparent manner. Therefore, in the future the FAA will establish submission deadlines by Federal Register notice in early August and early December because the FAA has noticed that the largest number of requests occur as carriers are finalizing their planned schedules. The FAA will continue to review all adjustment requests submitted outside of this semi-annual process in the order they are received.

³ 79 FR 44088 (Jul. 29, 2014).

To evaluate LGA slot adjustments for the upcoming 2015 summer IATA scheduling season in a fair and transparent manner, the FAA is establishing a deadline of January 5, 2015, for carriers to request retiming and changes to the arrival/departure designation of currently-held slots. Carriers should provide slot information in sufficient detail including, at a minimum, the operating carrier, slot number, scheduled time of arrival or departure, frequency, arrival/departure designation, and effective dates. Consistent with past practice, the FAA will evaluate requests in light of the overall operational impact at LGA and whether the requests improve or have a neutral effect on operational performance. The FAA will consider both short-term adjustments and adjustments through the expiration of the LGA Order. In addition, if the FAA receives conflicting requests for retiming, the FAA will give priority to new entrants and limited incumbents, consistent with the LGA Order and FAA practice. The terms of the LGA Order prevent the FAA from allocating new slots in hours at or above the slot limit.

The FAA will evaluate requests received by January 5, 2015, and intends to respond to the requests no later than January 12, 2015. The FAA cannot guarantee that all requests to adjust slot holdings will be confirmed. Requests received after January 5, 2015, will be evaluated after timely requests in the order they are received. As permitted under paragraph A.5 of the LGA Order, carriers are encouraged to engage in slot trades, when possible, to achieve desired timings.

Issued in Washington, DC, on December 12, 2014.
Mark W. Bury,
Assistant Chief Counsel for International Law, Legislation, and Regulations.

[FR Doc. 2014-29710 Filed 12-17-14; 8:45 am]

BILLING CODE 4910-13-P